FEDERAL DEPOSIT INSURANCE CORPORATION

[OMB No. 3064-0103; -0163]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0103, and -0163). The notice of the proposed renewal for these information collections were previously published in the Federal Register on March 20, 2024 and March 25, 2024, allowing for a 60-day comment period.

DATES: Comments must be submitted on or before July 17, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Recordkeeping Requirements Associated with Real Estate Appraisals and Evaluations.

OMB Number: 3064-0103.

Forms: None.

Affected Public: Insured State Nonmember Banks and State Savings Associations.

Burden Estimate:

Summary of Estimated Annual Burdens
[OMB No. 3064-0103]
IC description | Type of burden (obligation to respond) | Frequency of response | Number of respondents | Number of responses per respondent | Time per response (hours) | Annual burden (hours)
Recordkeeping Requirements Associated with Real Estate Appraisals and Evaluations (12 CFR 323) | Recordkeeping (Mandatory) | On occasion | 3,038 | 250 | 0.083 | 63,039
Total Annual Burden Hours |  |  |  |  |  | 63,039
Source: FDIC.

General Description of Collection: FIRREA directs the FDIC to prescribe appropriate performance standards for real estate appraisals connected with federally related transactions under its jurisdiction. This information collection is a direct consequence of the statutory requirement. It is designed to provide protection for federal financial and public policy interests by requiring real estate appraisals used in connection with federally related transactions to be performed in writing, in accordance with uniform standards, by an appraiser whose competency has been demonstrated and whose professional conduct will be subject to effective supervision. There is no change in the methodology or substance of this information collection. The increase in estimated annual burden (from 227 hours in 2021 to 250 hours currently) is due to the increase in the estimated number of responses.

2. Title: Qualified Financial Contracts Part 371.

OMB Number: 3064-0163.

Forms: None.

Affected Public: State non-member banks and savings associations.

Burden Estimate:

Summary of Estimated Annual Burden
[OMB No. 3064-0163]
Information collection (IC) (obligation to respond) | Type of burden (frequency of response) | Number of respondents | Number of responses per respondent | Time per response (HH:MM) | Annual burden (hours)
1. Full Scope Entities, Implementation (Mandatory) | Recordkeeping (Annual) | 1 | 1 | 6,000:00 | 6,000
2. Full Scope Entities, Ongoing (Mandatory) | Recordkeeping (Annual) | 11 | 1 | 250:00 | 2,750
3. Limited Scope Entities, Implementation (Mandatory) | Recordkeeping (Annual) | 3 | 1 | 23:30 | 71
4. Limited Scope Entities, Ongoing (Mandatory) | Recordkeeping (Annual) | 10 | 1 | 11:30 | 115
5. Reporting Requirements for part 371 (Mandatory) | Reporting (Annual) | 4 | 1 | 6:00 | 24
Total Annual Burden (Hours) |  |  |  |  | 8,960
Source: FDIC.

General Description of Collection: This collection consists of recordkeeping requirements for qualified financial contracts (QFCs) held by insured depository institutions in troubled condition. There is no change in the methodology or substance of this information collection. The decrease in the estimated annual burden (from 10,250 hours in 2021 to 8,960 hours currently) is due to the decline in the estimated number of limited scope entities covered by Part 371.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on June 12, 2024.
James P. Sheesley,
Assistant Executive Secretary.

[FR Doc. 2024-13250 Filed 6-14-24; 8:45 am]

BILLING CODE 6714-01-P